ENVIRONMENTAL PROTECTION AGENCY

[EPA-HQ-OECA-2008-0696; FRL-8756-2]

Agency Information Collection Activities; Submission to OMB for Review and Approval; Comment Request; Enforcement Policy Regarding the Sale and Use of Aftermarket Catalytic Converters; EPA ICR No. 1292.08, OMB Control No. 2060-0135

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before January 22, 2009.

ADDRESSES: Submit your comments, referencing Docket ID No. EPA-HQ-OECA-2008-0696, to (1) EPA online using www.regulations.gov (our preferred method), by e-mail to docket.oeca@epa.gov or by mail to: EPA Docket Center, Environmental Protection Agency, Mail Code 2822T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Anne Wick, Air Enforcement Division (2242A), Environmental Protection Agency, 1200 Pennsylvania Ave., NW., Washington, DC 20460; telephone number: (202) 564-2063; fax number: (202) 564-0069; e-mail address: wick.anne@epa.gov.

SUPPLEMENTARY INFORMATION: EPA has submitted the following ICR to OMB for review and approval according to the procedures prescribed in 5 CFR 1320.12. On September 30, 2008 (73 FR 56817), EPA sought comments on this ICR pursuant to 5 CFR 1320.8(d). EPA received no comments. Any additional comments on this ICR should be submitted to EPA and OMB within 30 days of this notice.

EPA has established a public docket for this ICR under Docket ID No. EPA-HQ-OECA-2008-0696, which is available for online viewing at www.regulations.gov, or in person viewing at the Enforcement and Compliance Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Enforcement and Compliance Docket is 202-566-9744.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, confidential business information (CBI), or other information whose public disclosure is restricted by statute. For further information about the electronic docket, go to www.regulations.gov.

Title: Enforcement Policy Regarding the Sale and Use of Aftermarket Catalytic Converters (Renewal).

ICR numbers: EPA ICR No. 1292.08, OMB Control No. 2060-0135.

ICR Status: This ICR is scheduled to expire on December 31, 2008. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The aftermarket catalytic converter policy (AMCC Policy) (51 FR 28114-28119, 28113 (Aug. 5, 1986); 52 FR 42144 (Nov. 3, 1987)) allows aftermarket automobile catalytic converter (AMCC) manufacturers and reconditioners to compete with the automobile manufacturers for the AMCC replacement market. Without this policy, it would be illegal, under section 203 of the Clean Air Act, 42 U.S.C. 7522, to sell or install AMCCs that do not conform exactly to the automobile manufacturers' original equipment (OE) versions of these parts. The AMCC Policy makes it possible for automobile repair shops, which are often small businesses, to take on a significant share of the AMCC replacement market. In doing so, consumers are able to purchase AMCCs at a much lower price than they would pay for an OE catalytic converter. This helps to ensure that vehicles will not create excessive air pollution because motorists are more likely to replace damaged catalytic converters if they can be obtained at a cost that is significantly less than OE catalytic converters (cost savings resulting from the AMCC Policy are estimated to be about $716 million in 2007 dollars).

New AMCC manufacturers are required to report, on a one-time basis for each type or line of converter manufactured, the supplier identities, physical specifications of each AMCC line produced, and information regarding pre-production testing of the AMCCs that show they meet the AMCC Policy emission reduction standards for certain specified vehicle applications (a single AMCC line can be used on a large number of vehicle applications). The current AMCC Policy requires new AMCC manufacturers to retain warranty and sales records.

Reconditioners (sellers of used catalytic converters) must report, on a one-time basis, the identity of the company, a description of the test bench used for testing used catalytic converters, and the intended vehicle application(s) for each catalytic converter type. All used catalytic converters must be tested individually to ensure they are still functional. The current AMCC Policy also requires reconditioners to retain sales and customer records.

Installers of AMCCs have no reporting requirements. They must fill out a written warranty and give it to the retail customer, include a brief statement with each invoice stating the need for replacing the original converter, and tag each removed converter with a reference to the invoice for repair, retain the replaced (tagged) catalytic converters for 15 days, and retain the invoices for 6 months.

The reporting and recordkeeping requirements for manufacturers of new AMCCs and sellers of reconditioned catalytic converters help ensure that proper AMCCs are manufactured/tested and distributed to installers and help ensure proper retail level installation of AMCCs. The installer requirements enable EPA to monitor whether correct AMCCs are installed at the retail level and whether AMCCs are used only in appropriate circumstances (i.e., where the OE catalytic converter is damaged or missing, or the vehicle is no longer covered under its emissions warranty).

The information required to be maintained or reported is not otherwise available and is not covered under any other information request since it is unique to the AMCC Policy. The collection of information is necessary for the proper performance of the functions of the Agency, particularly its enforcement function. The information collected has practical utility. For example, neither EPA nor a reconditioner can determine whether a used converter is effective by conducting a visual inspection of the converter. As another example, the efficacy of new aftermarket converters for particular vehicle applications cannot be determined without prototype testing and information on specifications.

Burden Statement: The annual public reporting and recordkeeping burden for this collection of information is estimated to average 7 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Manufacturers, Reconditioners, and Installers of Aftermarket Catalytic Converters.

Estimated Number of Respondents: 30,014.

Frequency of Response: On Occasion.

Estimated Total Annual Hour Burden: 220,928.

Estimated Total Annual Cost: $7,457,469, includes $740,786 annualized capital or O&M costs.

Changes in the Estimates: There is an increase of 8,827 hours in the total estimated burden currently identified in the OMB Inventory of Approved ICR Burdens. This increase is due to increased volume of cars and the corresponding increase in the number of installations of aftermarket catalysts. Thus, the increase reflects an adjustment in ICR estimates and not a change to program requirements.

Dated: December 17, 2008.
John Moses,
Acting Director, Collection Strategies Division.

[FR Doc. E8-30543 Filed 12-22-08; 8:45 am]

BILLING CODE 6560-50-P